DEPARTMENT OF EDUCATION

[CFDA No. 84.200A]

Office of Postsecondary Education; Graduate Assistance in Areas of National Need Program; Notice Announcing Technical Assistance Workshops for Preparing Applications for New Awards for Fiscal Year (FY) 2003

Purpose of Workshop: The Department of Education will conduct technical assistance workshops to assist prospective applicants in developing their applications for the FY 2003 competition under the Graduate Assistance in Areas of National Need (GAANN) program, authorized by title VII, part A, subpart 2, of the Higher Education Act of 1965, as amended, 20 U.S.C. 1135-1135e. The workshops will provide information on how to develop application narratives in accordance with the program selection criteria, as well as on program regulations and grant administration. Three technical assistance workshops have been scheduled for the Spring and Summer 2002. This will allow prospective applicants sufficient time to develop proposals for the FY 2003 competition. The workshops are open to both prospective applicants and current grantees.

Prospective applicants are advised that in September 2002 the Secretary plans to publish a notice inviting applications for FY 2003 awards, contingent upon Congress appropriating funds for this program. Workshops are free to the public. You may register by e-mail at: ope_gaann_program@ed.gov

Dates and Addresses:

Date: April 22, 2002.

Time: 8:30 a.m.-4:30 p.m.

Location: U.S. Department of Education, 1990 K Street, NW., Washington, DC 20006.

Date: June 13, 2002.

Time: 8:30 a.m.-4:30 p.m.

Location: Arizona State University, The Graduate College, Tempe, AZ 85287-2803.

Date: July 18, 2002.

Time: 8:30 a.m.-4:30 p.m.

Location: Washington University, Graduate School of Arts and Sciences, St. Louis, MO 63130-4899.

Assistance to Individuals With Disabilities at the Technical Assistance Workshops

The technical assistance workshop sites are accessible to individuals with disabilities. If you will need an auxiliary aid or service to participate in a workshop (e.g., interpreting service, assistive listening device, or materials in an alternative format), notify one of the contact persons listed under FOR FURTHER INFORMATION CONTACT at least two weeks before the scheduled workshop date. Although we will attempt to meet a request we receive after this date, we may not be able to make available the requested auxiliary aid or service because of insufficient time to arrange it.

FOR FURTHER INFORMATION CONTACT: Graduate Assistance in Areas of National Need Program Team: Annie Peake or Brandy Silverman, U.S. Department of Education, International Education and Graduate Programs Service, 1990 K Street, NW., 6th Floor, Room 6018, Washington, DC 20006-8521. Telephone: (202) 502-7700 or via Internet: ope_gaann_program@ed.gov

If you use a telecommunications device for the deaf (TDD), you may call the Federal Information Relay Service (FIRS) at 1-800-877-8339.

Individuals with disabilities may obtain this document in an alternative format (e.g., Braille, large print, audiotape, or computer diskette) on request to one of the contact persons listed under FOR FURTHER INFORMATION CONTACT.

Electronic Access to This Document

You may view this document, as well as all other Department of Education documents published in the Federal Register, in text or Adobe Portable Document Format (PDF) on the Internet at the following site: www.ed.gov/legislation/FedRegister

To use PDF you must have Adobe Acrobat Reader, which is available free at this site. If you have questions about using PDF, call the U.S. Government Printing Office (GPO), toll free, at 1-800-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 1135.

Dated: April 8, 2002.
Sally L. Stroup,
Assistant Secretary, Office of Postsecondary Education.

[FR Doc. 02-8810 Filed 4-10-02; 8:45 am]

BILLING CODE 4000-01-P